DEPARTMENT OF TRANSPORTATION

National Highway Traffic Safety Administration

Discretionary Cooperative Agreements To Support Rural Pickup Truck Safety Initiative

AGENCY: National Highway Traffic Safety Administration (NHTSA), DOT.

ACTION: Announcement of discretionary cooperative agreements to increase seat belt and child safety seat education and use among pickup truck occupants in rural areas.

SUMMARY: The National Highway Traffic Safety Administration (NHTSA) announces a cooperative agreement program to provide funding to two communities in support of the Buckle Up America (BUA) campaign. Created in 1997, two major goals exist for this campaign: (1) To increase the national seat belt use rate from 71 percent (November 2000) to 90 percent by 2005 and (2) to decrease the number of child passenger fatalities (0-4 years of age) by 25 percent by 2005 (using 653 fatalities in 1996 as a baseline). NHTSA solicits applications from rural community-based organizations or coalitions interested in developing and implementing a community demonstration project characterized by a public information and education program coupled with highly visible law enforcement efforts designed to increase seat belt and child restraint use among pickup truck occupants in rural areas. Rural organizations or rural community-based coalitions that promote injury prevention and safety programs are encouraged to apply. For the purposes of this notice, the word community can be interpreted to mean a single community, a county, or a specific geographic area that meets the population criteria specified in this notice.

DATES: Applications must be received by the office designated below on or before 2:00 p.m. on Thursday, August 9, 2001.

ADDRESSES: Applications must be submitted to the National Highway Traffic Safety Administration, Office of Contracts and Procurement (NAD-30), ATTN: Rose Watson, 400 7th Street, S.W.. Room 5301, Washington, DC 20590. All applications submitted must include a reference to NHTSA Cooperative Agreement Program No. DTNH22-01-H-05266.

FOR FURTHER INFORMATION CONTACT: General administrative questions may be directed to Rose Watson, Office of Contracts and Procurement, by e-mail at rwatson@nhtsa.dot.gov, or by telephone at (202) 366-9557. Programmatic questions should be directed to Mr. Edward Pacchetti, Occupant Protection Division (NTS-12), NHTSA, 400 7th Street, S.W., Room 5118, Washington, D.C., 20590, by e-mail at epacchetti@nhtsa.dot.gov, or by phone at (202) 366-5198. Interested applicants are advised that no separate application package exists beyond the contents of this announcement.

SUPPLEMENTARY INFORMATION:

Background

Motor vehicle crashes are the single leading cause of death for Americans 1-24 years of age and the third leading cause of death for Americans 25-44 years of age. In 1999, traffic crashes claimed over 41,000 lives and produced over three million injuries. These crashes resulted in approximately $150 billion in economic costs, including $17 billion in medical care and emergency services expenses and $107 billion in lost productivity and property loss. In April 1997, the Buckle Up America (BUA) Campaign was established to increase the seat belt and child safety seat use rate nationwide. The BUA Campaign advocates a four-part strategy: (1) Building public-private partnerships; (2) enacting strong legislation; (3) maintaining high visibility enforcement; and (4) conducting effective public education. Central to the campaign's success is the implementation of two major law enforcement mobilizations each year. These mobilizations, known as Operation ABC: America Buckles Up Children, are held in conjunction with the Air Bag & Seat Belt Safety Campaign in May and November, during the Memorial Day and Thanksgiving Day holidays.

According to NHTSA data, there were 6,125 fatalities among pickup truck occupants in 1999. One major reason for this high number of fatalities is the relative lack of seat belt and child restraint use among pickup truck occupants. Research has shown that seat belts reduce the risk of fatal injury by 60 percent for light truck occupants; this effectiveness increases to 80 percent in rollover crashes of these vehicles. Despite this evidence showing seat belt effectiveness, pickup truck occupants continue to have significantly lower rates of use than occupants of other vehicle types. The national seat belt use rate among pickup truck occupants in November 2000 was only 59 percent, compared to 74 percent for passenger car occupants. The rate of seat belt use among pickup truck occupants varies significantly among geographical regions: 68 percent in the West, 58 percent in the Midwest, 56 percent in the South, and 45 percent in the Northeast. Nationwide, 69 percent of light truck occupants killed in 1999 were unrestrained, compared to 51 percent of passenger car occupants who were killed during that same year while unrestrained. NHTSA data further reveal that 41 percent of light truck occupants killed in 1999 were ejected from their vehicles, compared to 21 percent of passenger car occupants killed in 1999.

For the purposes of the two demonstration projects to be awarded, NHTSA is focusing on initiatives to increase seat belt use among pickup truck occupants in rural communities. Sixty-one percent of traffic fatalities (25,453 of 41,611 total fatalities) occurred on rural roadways in 1999. A 1996 NHTSA report showed that a larger proportion of fatal crashes in rural areas involve light trucks compared to fatal crashes in urban areas (21 percent and 14 percent, respectively). Another NHTSA report referencing State data recounted that young, rural male pickup drivers in Kentucky and Texas consistently had low rates of seat belt use. This latter report suggested that there were numerous obstacles to overcome when conducting outreach to this population. Such obstacles included the false belief that being unbelted in a crash is actually safer than being belted, social norms that discourage belt use, and a fatalistic view of life that questions the effectiveness of seat belts. Another problem that has been identified among pickup truck occupants is the practice of riding in the cargo areas of these vehicles. Each year, almost 200 people die as a result; approximately half of those who die are children and teenagers. These data underscore the importance of program activity designed to increase seat belt and child restraint seat use among pickup truck occupants in rural areas.

Objectives

The principal purpose of this cooperative agreement program is to increase seat belt and child restraint use among pickup truck occupants in rural communities. Cooperative Agreements will be awarded in two geographically separate communities for this purpose. Each project will consist of a two-part strategy of public information and education supported by a highly visible law enforcement component. The objective of increasing restraint use and decreasing fatalities and injuries of pickup truck occupants will be met by:

1. Developing and Implementing a Community-Wide Public Information and Education Campaign. The cooperative agreement recipient will be expected to coordinate an intense, community-wide public information and education campaign that focuses on the effectiveness of seat belts and child safety seats in preventing deaths and injuries in motor vehicle crashes. This campaign should convey the importance of being properly restrained whenever riding in any vehicle, but the need for pickup truck occupants to be properly restrained at all times shall be given special emphasis due to the low seat belt use rate of these occupants compared to occupants of other vehicle types. This campaign will utilize culturally relevant messages for rural pickup truck occupants that encourage seat belt and child safety seat use on every trip. The dangers of allowing passengers to ride in pickup truck cargo areas should also be highlighted. Most importantly, the public information and education campaign will convey the message that seat belt use and child restraint laws in the community are enforced. The recipient will be expected to form partnerships with representatives in educational, judicial, law enforcement, public health, and media agencies and organizations within the community to disseminate these campaign messages. Additional partnerships with local emergency medical services and local business communities should also be developed. Partnerships should also be developed with organizations representing diverse populations within the community. Such agencies and organizations can then work within their respective professional areas to provide education and generate support for the campaign.

2. Periodic “Waves” of High Visibility Enforcement. In addition to the community-based public information and education campaign described above, a plan that emphasizes periodic waves of high visibility enforcement of seat belt and child restraint laws will be developed. To forge such a plan, this cooperative demonstration project should seek assistance from the Governor's SHSA representative, State police, and local law enforcement officials in the demonstration community. It is important to emphasize that during the law enforcement component of the project, law enforcement activities shall focus on increasing restraint use equally among occupants of all vehicle types, not solely among pickup truck occupants. Enforcement activities shall include, but not be limited to, participation in the national Operation ABC Mobilizations held each May and November.

The case for conducting high visibility enforcement of seat belt and child restraint laws is well documented. An example of the combined approach of law enforcement and media saturation is South Carolina's Click It or Ticket Campaign, initiated in November 2000. During a 14-day period, over 200 law enforcement agencies participated in a monumental enforcement effort that was coupled with frequent media messages. Ninety-five percent of motorists surveyed reporting reading, seeing, or hearing Click It or Ticket messages by the final week of the campaign. As a result, seat belt use increased significantly—from 66 percent to 74 percent. Seat belt use among males, a key pickup truck driver population, increased from 59 percent to 68 percent. This increase in seat belt use contributed to a 30 percent reduction in fatalities in South Carolina compared to the same period during 1999. On the community level, an example of a successful initiative using media saturation and enforcement strategies to increase seat belt use occurred in Elmira, New York. During an intense media and enforcement campaign in October 1999, the seat belt use rate increased from 63 percent to 90 percent in three weeks. A report documenting Elmira's success can be accessed at http://www.nhtsa.dot.gov/people/outreach/traftech/tt246.htm.

NHTSA Involvement

NHTSA will be involved in all activities undertaken as part of the cooperative agreement program and will:

1. Provide a Contracting Officer's Technical Representative (COTR) to participate in the planning and administration of the cooperative agreements and to coordinate activities between the cooperative agreement recipients and NHTSA;

2. Provide information and technical assistance from government sources, within available resources and as determined appropriate by the COTR; and

3. Act as a liaison between the cooperative agreement recipients and with other government and private agencies as appropriate.

Availability of Funds and Period of Support

It is anticipated that two cooperative agreements, in the amount of $175,000 each, will be awarded to provide for a performance period of 15 months. The application should address what is proposed and can be accomplished during this period which includes evaluation and preparation of the final report. NHTSA estimates that the award of the two cooperative agreements will occur by September 30, 2001.

Federal monies allocated for cooperative agreements are not intended to cover all of the costs that will be incurred in the process of completing a demonstration project. Therefore, applicants should describe their commitment of financial and/or in-kind resources that will be used to complete their proposed demonstration project. Allowable uses of federal funds shall be governed by the applicable federal cost principles.

Eligibility Requirements

To be eligible to participate in this cooperative agreement program, an applicant must be an agency or organization serving a rural area that is poised to conduct a community-wide public information and education campaign and to participate in or coordinate law enforcement mobilizations designed to increase seat belt and child restraint use. Community-based coalitions or organizations that promote injury prevention, especially traffic safety may apply. Such rural community coalitions/organizations include, but are not limited to: law enforcement agencies, public health and safety organizations, education organizations, media groups, organizations representing diverse populations, local private-sector organizations, and non-profit organizations. Applicants must represent a rural demonstration community with a population of at least 75,000 but not exceeding 150,000 based upon Census 2000 data of the U.S. Census Bureau. Also, the community should not be closer than 100 miles to a major metropolitan area, which is defined as a city of more than 250,000 people.

Application Procedure

Each applicant must submit one original and two copies of their application package to: NHTSA, Office of Contracts and Procurement (NAD-30), ATTN: Rose Watson, 400 7th Street, S.W., Room 5301, Washington, D.C. 20590. Submission of four additional copies will expedite processing, but is not required. Applications must be typed on one side of the page only. Applications must include a reference to NHTSA Cooperative Agreement Program No. DTNH22-01-H-05266. Only complete application packages received by 2 p.m. on Thursday, August 9, 2001 will be considered.

Application Contents

1. The application package must be submitted with OMB Standard Form 424 (Rev. 7-97), Application for Federal Assistance, including 424A, Budget Information-Nonconstruction Program, and 424B Assurances-Nonconstruction Programs, with the required information filled in and the certified assurances included. The OMB Standard Forms SF-424, SF-424A and SF424B may be downloaded directly from the OMB Internet website at http://www.whitehouse.gov/omb/grants/. While the Form 424-A deals with budget information, and Section B identifies Budget Categories, the available space does not permit a level of detail which is sufficient to provide for a meaningful evaluation of the proposed costs. A supplemental sheet should be provided which presents a detailed breakdown of the proposed costs (direct labor, including labor categories, level of effort and rate; direct material, including itemized equipment; travel and transportation, including projected trips and number of people traveling; subcontracts/subgrants with similar cost detail, if known; and overhead costs), as well as any resources which the applicant and/or other coalition participant proposes to contribute in support of this effort.

2. The application package must also include a program narrative statement which does not exceed 20 pages, excluding letters of endorsement and resumes, and which addresses the following:

a. A description of the rural demonstration community which includes demographic information and a description of law enforcement agencies that have traffic enforcement jurisdiction in the community. The proportion of pickup trucks in the demonstration community in relation to other vehicle types (passenger cars, minivans and SUVs) in that community should be provided based on data regarding the number of registered vehicles in the community.

b. A detailed explanation of the proposed plan to develop and conduct a community-wide public information and education campaign regarding the extreme importance of seat belt and child safety seat use among occupants of all vehicle types, but especially among pickup truck occupants. The plan shall identify strategies for participation in Operation ABC Mobilizations and plans to conduct waves of highly publicized seat belt and child passenger safety enforcement. A description of efforts to address training needs (i.e., differential enforcement or diversity sensitivity) should be included; such knowledge would help law enforcement officers in partnering with the community when the demonstration project is underway. This section shall include a list of project activities in chronological order to show the schedule or planned accomplishments and their target dates. The applicant shall identify the various participating community agencies/organizations and their involvement in the demonstration project. Letters of support from participating community partners shall be included. Documentation of existing public and/or political support must be included (e.g., endorsement of applicable law enforcement agencies, community health organizations, Mayor or other chief executive officer, etc.). In addition, a letter demonstrating support and coordination with State plans must be provided by the Governor's Representative or his/her designee in the State Highway Safety Agency (SHSA).

c. An evaluation section which describes how the recipient will evaluate and measure the project activities and outcomes. Increases in observed seat belt and child safety seat use among pickup truck occupants are the ultimate measures of success. However, evaluation of the specific elements of the public education and information component and law enforcement component of the program should be performed to provide an assessment of the program's effectiveness.

(1) Data for measuring the activities and effectiveness of the public information and education campaign include, but are not limited to: (i) Level of earned media coverage; (ii) level of paid media coverage, and (iii) results of pre- and post-program surveys (on-site or telephonic) regarding awareness of occupant restraint issues, especially those for pickup truck occupants. Data sources should be identified and collection and analysis approaches should be described. Sample data collection forms and instructions (in-person, telephone, and seat belt observation survey forms) are available from NHTSA that can be customized by the recipient. A booklet entitled Achieving a High Seat Belt Use Rate: A Guide for Selective Traffic Enforcement Programs is available at http://www.nhtsa.dot.gov/people/injury/research/index.html.

(2) Data for measuring the activities and effectiveness of law enforcement efforts include, but are not limited to: (i) The number of seat belt and child safety seat citations issued; (ii) the number of officer hours or special enforcement efforts during the mobilization or enforcement periods, DWI arrests, and other non-traffic related crimes; (iii) increases in the number of law enforcement personnel trained to enforce occupant protection laws; (iv) community participation in Operation ABC Mobilizations; (v) increased perception of ongoing enforcement and public education activities (may be obtained from the on-site or telephone surveys conducted to measure effectiveness of the public information and education campaign in the preceding paragraph); (vi) incentive programs to complement enforcement efforts, and (vii) pre- and post-program observational seat belt surveys. Data sources should be identified and collection and analysis approaches should be described.

d. A detailed description of the applicant's previous involvement in community-based coalitions to promote injury prevention and especially traffic safety in the past and how this experience will assist the applicant in the demonstration project. The applicant should describe any prior media campaigns and/or work with media professionals in conducting public outreach, as well as any past participation in highly publicized enforcement or participation in Operation ABC Mobilizations. Prior experience in working with educational, judicial, law enforcement, and public health and safety organizations within the demonstration community should be described, as well as partnerships with organizations representing diverse populations within the community.

e. A personnel section which identifies the proposed project coordinator and other key personnel necessary to perform the public information campaign, enforcement activities and evaluation component shall be provided. This section shall include a description of their qualifications, the nature of their contribution, their respective organizational responsibilities, and the proposed level of their effort.

Review Process and Criteria

Initially, each application will be reviewed to confirm that the applicant meets the eligibility requirements and that the application contains all of the information required by the Application Contents section of this notice. Each complete application from an eligible applicant will then be evaluated by a NHTSA Technical Evaluation Committee. The applications will be evaluated using the following criteria:

1. Project Plan: The overall soundness and feasibility of the rural demonstration community project plan and the potential effectiveness of the described public information and education campaign and highly visible law enforcement activities to increase seat belt and child safety seat use among occupants of pickup trucks (50 percent).

2. The applicant's planned partnerships with other community agencies/organizations promotes the requisite participation among those groups considered necessary to conduct an effective community demonstration project. In addition, the applicant's prior successful experience with community-based coalitions demonstrates the necessary organizational skills to effectively coordinate the proposed project (30 percent).

3. The proposed personnel resources demonstrate effective project coordination capability and the requisite breadth of expertise to successfully perform the described activities that will result in increasing seat belt and child safety seat use among occupants of pickup trucks (20 percent).

Terms and Conditions of Award

1. Prior to award, the recipients must comply with the certification requirements of 49 CFR part 20, Department of Transportation New Restriction on Lobbying, and 49 CFR Part 29, Department of Transportation Government-wide Debarment and Suspension (Nonprocurement) and Government-wide Requirements for Drug-Free Workplace (Grants).

2. During the effective period of the cooperative agreements awarded as a result of this Notice, the agreements shall be subject to NHTSA's General Provisions for Assistance Agreements (7/95).

3. Reporting Requirements and Deliverables:

a. Quarterly Reports, which shall be due 15 days after the end of each quarter, shall be submitted to document project efforts and results. The reports should include up-to-date information summarizing accomplishments during the quarter including: data gathered to-date (such as earned and paid media events, observation and awareness surveys, and enforcement data); obstacles or problems encountered and proposed solutions; noteworthy activities, events or successes; and funds and in-kind contributions expended to date. The quarterly reports will form the basis for the final report to disseminate the lessons learned and successes of the recipient. The COTR will approve invoices upon receipt of each quarterly report.

b. Draft Final Report: The recipient shall prepare a draft Final Report that includes a complete description of the overall project implementation, including a project time-line; the activities conducted, including partners; data collection efforts; evaluation methodology; and findings from the program evaluation. In terms of information transfer, it is important to know what worked and what did not work, under what circumstances, and what can be done to avoid potential problems in future projects. The report should provide information that will be helpful in assembling a “Best Practices” guide for use by other communities. The grantee shall submit the draft Final Report to the COTR 60 days prior to the end of the performance period. The COTR will review the draft report and provide comments to the grantee within 30 days of receipt of the document.

c. Final Report: The grantee shall revise the draft Final Report to reflect the COTR's comments. The revised final report shall be delivered to the COTR 15 days before the end of the performance period. For the final report, the Grantee shall supply the COTR:

—A camera ready version of the document as printed.

—A copy, on appropriate media (diskette, Syquest disk, etc.), of the document in the original program format that was used for the printing process.

Note: Some documents require several different original program languages (e.g., PageMaker was the program format for the general layout and design and Power Point was used for charts and yet another was used for photographs, etc.). Each of these component parts should be available on disk, properly labeled with the program format and the file names. For example, Power Point files should be clearly identified by both a descriptive name and file name (e.g., 1994 Fatalities—chart1.ppt).

—A complete version of the assembled document in portable document format (PDF) for placement of the report on the world wide web (WWW). This will be a file usually created with the Adobe Exchange program of the complete assembled document in the PDF format that will actually be placed on the WWW. The document would be completely assembled with all colors, charts, side bars, photographs, and graphics. This can be delivered to NHTSA on a standard 1.44 diskette (for small documents) or on any appropriate archival media (for large documents) such as a CD ROM, TR-1 Mini cartridge, Syquest disk, etc.

—Four additional hard copies of the final document.

d. The recipients may be requested to conduct an oral presentation of their respective project activities for the COTR and other interested NHTSA personnel. For planning purposes, assume that these presentations will be conducted at the NHTSA Office of Traffic and Injury Control Programs, Washington, DC. An original and three copies of briefing materials shall be submitted to the COTR.

Issued on: June 28, 2001.
Rose A. McMurray,
Associate Administrator for Traffic Safety Programs.

[FR Doc. 01-16763 Filed 7-3-01; 8:45 am]

BILLING CODE 4910-59-P